DEPARTMENT OF THE INTERIOR

National Park Service

[NPS-WASO-NRNHL-14821; PPWOCRADI0, PCU00RP14.R50000]

National Register of Historic Places; Notification of Pending Nominations and Related Actions

Nominations for the following properties being considered for listing or related actions in the National Register were received by the National Park Service before January 11, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 25, 2014. Before including your address, phone number, email address, or other personal identifying information in your comment, you should be aware that your entire comment—including your personal identifying information—may be made publicly available at any time. While you can ask us in your comment to withhold your personal identifying information from public review, we cannot guarantee that we will be able to do so.

Dated: January 13, 2014.
J. Paul Loether,
Chief, National Register of Historic Places/National Historic Landmarks Program.

CALIFORNIA

Contra Costa County

Memorial Hall, Pomona St. at Alexander Ave., Crockett, 14000013

DISTRICT OF COLUMBIA

District of Columbia

Park View Playground and Field House, 693 Otis Pl. NW., Washington, 14000014

Webster, Marjorie, Junior College Historic District, 1638 & 1640 Kalmia Rd. NW., 7753 & 7775 17th St. NW., Washington, 14000015

KENTUCKY

Fayette County

Fayette National Bank (Boundary Increase), 167 W. Main St., Lexington, 14000016

Garrard County

Paint Lick Commercial District, Roughly along Richmond Rd., Paint Lick, 14000017

MASSACHUSETTS

Barnstable County

Hatch, Ruth and Robert Jr., House, (Mid 20th Century Modern Residential Architecture on Outer Cape Cod MPS) 309 Bound Brook Way, Wellfleet, 14000018

Kugel, Peter, House, (Mid 20th Century Modern Residential Architecture on Outer Cape Cod MPS) 188 Long Pond Rd., Wellfleet, 14000019

Kuhn, Samuel and Minette, House, (Mid 20th Century Modern Residential Architecture on Outer Cape Cod MPS) 420 Griffins Island Rd., Wellfleet, 14000020

Sirna, Anthony and Allison, Studio, (Mid 20th Century Modern Residential Architecture on Outer Cape Cod MPS) 60 Way #4, Wellfleet, 14000021

Tiszl, Vera and Lazlo, House, (Mid 20th Century Modern Residential Architecture on Outer Cape Cod MPS) 2 Deer Trail, Wellfleet, 14000022

Weidlinger, Paul and Madeleine, (Mid 20th Century Modern Residential Architecture on Outer Cape Cod MPS) 54 Valley Rd., Wellfleet, 14000023

MICHIGAN

Wayne County

Redstone, Louis G., Residential Historic District, 19303, 19309 & 19315 Appoline St., Detroit, 14000024

NEW MEXICO

Eddy County

Caverns, The, Historic District (Boundary Increase), At end of NM 7, Carlsbad, 14000012

NEW YORK

Monroe County

Oatka Cemetery, 411 Scottsville-Mumford Rd., Wheatland, 14000025

New York County

South Village Historic District, Roughly Bedford, Carmine, Downing, Grand, Jones, Leroy, MacDougal, Prince, W. 3rd, W. Houston Sts., LaGuardia Pl., Manhattan, 14000026

OHIO

Butler County

Main Street Commercial Historic District, Jct. of Main St. & Central Ave., Middletown, 14000027

Cuyahoga County

Tower East, 20600 Chagrin Blvd., Shaker Heights, 14000029

Pickaway County

Bulen, Granville M., House and Farm Complex, 10001 Bulen-Pierce Rd., Lockbourne, 14000028

Summit County

Goodyear Hall—Ohio Savings and Trust Company, 1201 E. Market St., Akron, 14000030

SOUTH DAKOTA

Faulk County

Sievers School, (Schools in South Dakota MPS) NE. corner of 362nd Ave. & 170th St., Rockham, 14000031

Lyman County

Iron Nation's Gravesite, Messiah Cemetery, Iron Nation District, Lower Brule Sioux Reservation, Lower Brule, 14000032

Miner County

Nansen Store, 43713 228th St., Howard, 14000033

[FR Doc. 2014-02751 Filed 2-7-14; 8:45 am]

BILLING CODE 4312-51-P